FEDERAL FINANCIAL INSTITUTIONS EXAMINATION COUNCIL

[Docket No. AS11-03]

Determination Regarding National Appraisal Complaint Hotline

AGENCY: Appraisal Subcommittee (ASC) of the Federal Financial Institutions Examination Council.

ACTION: Determination by the ASC regarding a national appraisal complaint hotline.

SUMMARY: Pursuant to section 1473(p) of the Dodd-Frank Wall Street Reform and Consumer Protection Act of 2010 (Act), the Appraisal Subcommittee (ASC) has determined that no one national hotline presently exists that fully complies with the Act. The determination was made on January 12, 2011, during the ASC's open meeting. In making this determination, the ASC initiated a project to study the establishment and operation of a national appraisal complaint hotline as required by the Act.

DATES: Effective Date: Effective immediately.

FOR FURTHER INFORMATION CONTACT: James R. Park, Executive Director, at (202) 595-7575, or Alice M. Ritter, General Counsel, at (202) 595-7577, via Internet e-mail at jim@asc.gov and alice@asc.gov, respectively, or by U.S. Mail at Appraisal Subcommittee, 1401 H Street, NW., Suite 760, Washington, DC 20005.

SUPPLEMENTARY INFORMATION: Consistent with Title XI of the Financial Institutions Reform, Recovery and Enforcement Act of 1989, as amended by section 1473(p) of the Act, the ASC must determine within six months of the Act's enactment whether a national appraisal complaint hotline exists. In making the determination, the ASC must consider whether a national hotline exists to receive complaints of noncompliance with appraisal independence standards and the Uniform Standards of Professional Appraisal Practice. Further, the national hotline must have the capability to receive complaints from appraisers, individuals, or other entities concerning the improper influencing or attempted improper influencing of appraisers or the appraisal process. Based on research by ASC staff of national consumer and other complaint hotlines currently operated by various federal government agencies, including those of the ASC member agencies and the Federal Trade Commission, the ASC has determined that there is no one hotline that fully complies with the Act. In making this determination, the ASC initiated a project to study the establishment and operation of a national appraisal complaint hotline as required by Act. Consistent with the Act, the national appraisal hotline must receive complaints, refer complaints to the appropriate federal or state agency for resolution, and provide the capability to monitor the resolution of complaints.

Dated: January 24, 2011.
By the Appraisal Subcommittee.
Deborah S. Merkle,
Chairman,

[FR Doc. 2011-1866 Filed 1-27-11; 8:45 am]

BILLING CODE P